DEPARTMENT OF TRANSPORTATION

Federal Aviation Administration

14 CFR Part 39

[Docket No. FAA-2022-1238; Project Identifier MCAI-2022-00741-T; Amendment 39-22290; AD 2022-27-05]

RIN 2120-AA64

Airworthiness Directives; Dassault Aviation Airplanes

AGENCY: Federal Aviation Administration (FAA), DOT.

ACTION: Final rule.

SUMMARY: The FAA is superseding Airworthiness Directive (AD) 2022-09-15, which applied to all Dassault Aviation Model FALCON 2000 and FALCON 2000EX airplanes. AD 2022-09-15 required relocating affected servo-valves and revising the existing airplane flight manual (AFM) to provide temporary information necessary to operate airplanes fitted with at least one affected brake servo-valve. AD 2022-09-15 also limited or prohibited the installation of affected brake servo-valves. This AD was prompted by a determination that replacing certain brake servo-valves is necessary to address the unsafe condition. This AD continues to require the actions in AD 2022-09-15, including the parts installation limitation or prohibition, and also requires replacing an affected part with a serviceable part, as specified in a European Union Aviation Safety Agency (EASA) AD, which is incorporated by reference (IBR). The FAA is issuing this AD to address the unsafe condition on these products.

DATES: This AD is effective February 3, 2023.

The Director of the Federal Register approved the incorporation by reference of a certain publication listed in this AD as of May 31, 2022 (87 FR 29217, May 13, 2022).

ADDRESSES:

AD Docket: You may examine the AD docket at regulations.gov under Docket No. FAA-2022-1238; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material incorporated by reference in this AD, contact EASA, Konrad-Adenauer-Ufer 3, 50668 Cologne, Germany; telephone +49 221 8999 000; email ADs@easa.europa.eu; website easa.europa.eu. You may find this material on the EASA website at ad.easa.europa.eu.

• You may view this service information at the FAA, Airworthiness Products Section, Operational Safety Branch, 2200 South 216th St., Des Moines, WA. For information on the availability of this material at the FAA, call 206-231-3195. It is also available at regulations.gov under Docket No. FAA-2022-1238.

FOR FURTHER INFORMATION CONTACT: Tom Rodriguez, Aerospace Engineer, Large Aircraft Section, FAA, International Validation Branch, 2200 South 216th St., Des Moines, WA 98198; telephone: 206-231-3226; email: Tom.Rodriguez@faa.gov.

SUPPLEMENTARY INFORMATION:

Background

The FAA issued a notice of proposed rulemaking (NPRM) to amend 14 CFR part 39 to supersede AD 2022-09-15, Amendment 39-22035 (87 FR 29217, May 13, 2022), (AD 2022-09-15). AD 2022-09-15 applied to all Dassault Aviation Model FALCON 2000 and FALCON 2000EX airplanes. AD 2022-09-15 required relocating affected servo-valves and revising the existing AFM to provide temporary information necessary to operate airplanes fitted with at least one affected brake servo-valve. AD 2022-09-15 also limited or prohibited the installation of affected brake servo-valves. The FAA issued AD 2022-09-15 to prevent temporary failure of the brake servo-valves, which could lead to reduced braking performance during landing including degraded or dissymmetric braking, possibly resulting in reduced control of the airplane, lateral excursion of the runway, and consequent damage to the airplane.

The NPRM published in the Federal Register on October 20, 2022 (87 FR 63706). The NPRM was prompted by Emergency AD 2022-0068-E, dated April 14, 2022, issued by EASA, which is the Technical Agent for the Member States of the European Union (EASA Emergency AD 2022-0068-E) (referred to after this as the MCAI). The MCAI states that occurrences were reported of brake system failure during landing. Subsequent investigation determined the root cause to be a brake control-valve failure which was a result of application of inappropriate oiling during production and maintenance, affecting a specific batch of affected parts. This condition, if not addressed, could lead to reduced braking performance during landing, possibly resulting in reduced control of, and consequent damage to, the airplane. The NPRM was also prompted by a determination that replacing certain brake servo-valves is necessary to address the unsafe condition. AD 2022-09-15 did not require that replacement, because the planned compliance time for that replacement would have allowed enough time to provide notice and opportunity for prior public comment on the merits of the action. The FAA determined that the replacement is needed, and is therefore issuing this AD to require the replacement.

In the NPRM, the FAA proposed to retain all of the requirements of AD 2022-09-15, including the parts installation limitation or prohibition. The NPRM also proposed to require replacing affected brake servo-valves, as specified in EASA Emergency AD 2022-0068-E.

You may examine the MCAI in the AD docket at regulations.gov under Docket No. FAA-2022-1238.

Discussion of Final Airworthiness Directive

Comments

The FAA received no comments on the NPRM or on the determination of the cost to the public.

Conclusion

This product has been approved by the aviation authority of another country and is approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on this product. Except for minor editorial changes, this AD is adopted as proposed in the NPRM. None of the changes will increase the economic burden on any operator.

Related Service Information Under 1 CFR Part 51

This AD requires EASA Emergency AD 2022-0068-E, which the Director of the Federal Register approved for incorporation by reference as of May 31, 2022 (87 FR 29217, May 13, 2022). This material is reasonably available because the interested parties have access to it through their normal course of business or by the means identified in ADDRESSES.

Costs of Compliance

The FAA estimates that this AD affects 441 airplanes of U.S. registry. The FAA estimates the following costs to comply with this AD:

Estimated Costs
Action | Labor cost | Parts cost | Cost per product | Cost on U.S. operators
Relocation | 10 work-hours × $85 per hour = $850 | $0 | $850 | $374,850
AFM revision | 1 work-hour × $85 per hour = $85 | 0 | 85 | 37,485
Replacement | 10 work-hours × $85 per hour = $850 | 11,690 | 12,540 | 5,530,140

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2022-09-15, Amendment 39-22035 (87 FR 29217, May 13, 2022); and

b. Adding the following new airworthiness directive:

2022-27-05 Dassault Aviation: Amendment 39-22290; Docket No. FAA-2022-1238; Project Identifier MCAI-2022-00741-T.

(a) Effective Date

This airworthiness directive (AD) is effective February 3, 2023.

(b) Affected ADs

This AD replaces AD 2022-09-15, Amendment 39-22035 (87 FR 29217, May 13, 2022) (AD 2022-09-15).

(c) Applicability

This AD applies to all Dassault Aviation Model FALCON 2000 and FALCON 2000EX airplanes, certificated in any category.

(d) Subject

Air Transport Association (ATA) of America Code 32, Landing gear.

(e) Unsafe Condition

This AD was prompted by a determination that replacing certain brake servo-valves is necessary and reports of brake system failures during landing. The FAA is issuing this AD to prevent temporary failure of the brake servo-valves, which could lead to reduced braking performance during landing including degraded or dissymmetric braking, possibly resulting in reduced control of the airplane, lateral excursion of the runway, and consequent damage to the airplane.

(f) Compliance

Comply with this AD within the compliance times specified, unless already done.

(g) Requirements

Except as specified in paragraphs (h) and (i) of this AD: Comply with all required actions and compliance times specified in, and in accordance with, European Union Aviation Safety Agency (EASA) Emergency AD 2022-0068-E, dated April 14, 2022 (EASA Emergency AD 2022-0068-E).

(h) Exceptions to EASA Emergency AD 2022-0068-E

(1) Where paragraphs (1) and (2) of EASA Emergency AD 2022-0068-E refer to its effective date, this AD requires using May 31, 2022 (the effective date of AD 2022-09-15).

(2) Where paragraph (4) of EASA Emergency AD 2022-0068-E refers to its effective date, this AD requires using the effective date of this AD.

(3) Where paragraph (2) of EASA Emergency AD 2022-0068-E specifies to “inform all flight crews, and, thereafter, operate the aeroplane accordingly,” this AD does not require those actions as those actions are already required by existing FAA operating regulations (see 14 CFR 91.9, 91.505, and 121.137).

(4) This AD does not adopt the “Remarks” section of EASA Emergency AD 2022-0068-E.

(i) No Reporting or Return of Parts

Although the service information referenced in EASA Emergency AD 2022-0068-E specifies to submit certain information and send removed parts to the manufacturer, this AD does not include that requirement.

(j) Additional FAA AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (k) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Dassault Aviation's EASA Design Organization Approval (DOA). If approved by the DOA, the approval must include the DOA-authorized signature.

(k) Additional Information

For more information about this AD, contact Tom Rodriguez, Aerospace Engineer, Large Aircraft Section, FAA, International Validation Branch, 2200 South 216th St., Des Moines, WA 98198; telephone 206-231-3226; email Tom.Rodriguez@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on May 31, 2022 (87 FR 29217, May 13, 2022).

(i) European Union Aviation Safety Agency (EASA) Emergency AD 2022-0068-E, dated April 14, 2022.

(ii) [Reserved]

(4) For EASA Emergency AD 2022-0068-E, contact EASA, Konrad-Adenauer-Ufer 3, 50668 Cologne, Germany; telephone +49 221 8999 000; email ADs@easa.europa.eu; website easa.europa.eu. You may find this EASA AD on the EASA website at ad.easa.europa.eu.

(5) You may view this material at the FAA, Airworthiness Products Section, Operational Safety Branch, 2200 South 216th St., Des Moines, WA. For information on the availability of this material at the FAA, call 206-231-3195.

(6) You may view this material that is incorporated by reference at the National Archives and Records Administration (NARA). For information on the availability of this material at NARA, email fr.inspection@nara.gov, or go to: www.archives.gov/federal-register/cfr/ibr-locations.html.

Issued on December 21, 2022.
Christina Underwood,
Acting Director, Compliance & Airworthiness Division, Aircraft Certification Service.

[FR Doc. 2022-28383 Filed 12-29-22; 8:45 am]

BILLING CODE 4910-13-P